DEPARTMENT OF TRANSPORTATION

Coast Guard

33 CFR Part 117

[CGD08-02-025]

RIN 2115-AE47

Drawbridge Operating Regulation; Illinois Waterway, Joliet, IL

AGENCY: Coast Guard, DOT.

ACTION: Notice of temporary deviation from regulations.

SUMMARY: The Commander, Eighth Coast Guard District has issued a temporary deviation from the regulation governing the operation of the Elgin, Joliet & Eastern Railway Drawbridge, across the Illinois Waterway, mile 290.1 at Joliet, Illinois. This deviation allows the drawbridge to remain closed to navigation for three separate 28-hour increments starting at 6 a.m., November 4, 2002, and ending at 10 a.m., November 15, 2002, Central Standard Time. The deviation is necessary to facilitate maintenance work on the bridge that is essential to the continued safe operation of the drawbridge.

DATES: This temporary deviation is effective from 6 a.m., November 4, 2002, until 10 a.m., November 15, 2002.

ADDRESSES: Materials referred to in this rule are available for inspection or copying at the office of the Eighth Coast Guard District, Bridge Administration Branch, Commander (obr), Eighth Coast Guard District, 1222 Spruce Street, St. Louis, MO 63103-2832, between 8 a.m. and 4 p.m., Monday through Friday, except federal holidays. The Bridge Administration Branch maintains the public docket for this temporary deviation.

FOR FUTHER INFORMATION CONTACT: Roger K. Wiebusch, Bridge Administrator, Commander (obr), Eighth Coast Guard District, 1222 Spruce Street, St. Louis, MO 63103-2832, (314) 539-3900, extension 2378.

SUPPLEMENTARY INFORMATION: The Elgin, Joliet & Eastern Railway Company requested a temporary deviation on September 23, 2002, for the operation of the drawbridge to allow the bridge owner time for preventative maintenance. The drawbridge operation regulations found at 33 CFR 117.393(d) require that the drawbridge be maintained in the open-to-navigation position and close only for the passage of rail traffic. This deviation allows the bridge to remain closed to navigation for four separate 28-hour intervals from 6 a.m., November 4, 2002, until 10 a.m., November 5, 2002, from 6 a.m., November 7, 2002, until 10 a.m., November 8, 2002, from 6 a.m., November 11, 2002, until 10 a.m., November 12, 2002 and from 6 a.m., November 14, 2002, until 10 a.m., November 15, 2002. Vessels not exceeding the vertical clearance of the drawbridge may pass under the drawbridge during repairs. There are no alternate routes for vessels transiting through mile 290.1 on the Illinois Waterway. The drawbridge will be incapable of opening for emergencies during the 28-hour repair periods.

The Elgin, Joliet & Eastern Railway drawbridge provides a vertical clearance of 24.6 feet above normal pool in the closed to navigation position. Navigation on the waterway consists primarily of commercial tows and recreational watercraft. In order to repair and replace gear reducers, roller bearings, gears and shafts, the bridge must be kept inoperative and in the closed to navigation position. This deviation has been coordinated with waterway users. No objections were received.

In accordance with 33 CFR 117.35(c), this work will be performed with all due speed in order to return the bridge to normal operation as soon as possible. This deviation from the operating regulations is authorized under 33 CFR 117.35.

Dated: October 29, 2002.
Roger K. Wiebusch,
Bridge Administrator.

[FR Doc. 02-28134 Filed 11-5-02; 8:45 am]

BILLING CODE 4910-15-U